DEPARTMENT OF TRANSPORTATION

Federal Aviation Administration

14 CFR Part 91

[Docket No. FAA-2015-0190; Amdt. No. 91-337]

RIN 2120-AK69

Prohibition of Fixed-Wing Special Visual Flight Rules Operations at Washington-Dulles International Airport; Withdrawal

AGENCY: Federal Aviation Administration (FAA), DOT.

ACTION: Direct final rule; withdrawal.

SUMMARY: The FAA is withdrawing a previously published direct final rule that would have prohibited fixed-wing special visual flight rules operations at Washington-Dulles International Airport. The FAA is withdrawing this action because it has received an adverse comment.

DATES: The direct final rule published on March 26, 2015, at 80 FR 15887, is withdrawn, effective May 19, 2015.

FOR FURTHER INFORMATION CONTACT: For technical questions concerning this action, contact David Maddox, Airspace Policy and Regulation Group, AJV-113, Federal Aviation Administration, 800 Independence Avenue SW., Washington, DC 20591; telephone (202) 267-8783; email david.maddox@faa.gov.

For legal questions concerning this action, contact Robert Frenzel, Office of the Chief Counsel, AGC-200, Federal Aviation Administration, 800 Independence Avenue SW., Washington, DC 20591; telephone (202) 267-3073; email robert.frenzel@faa.gov.

SUPPLEMENTARY INFORMATION:

Background

On March 26, 2015 (80 FR 15887), the FAA published in the Federal Register a direct final rule prohibiting fixed-wing special visual flight rules (SVFR) operations at Washington-Dulles International Airport (IAD). The direct final rule was to become effective on May 26, 2015.

Reason for Withdrawal

The FAA is withdrawing the direct final rule because the agency received an adverse comment to the rule and is required by 14 CFR 11.31(c) to withdraw a direct final rule if the agency receives any adverse comment or notice of intent to file any adverse comment. We received a comment from an individual pilot who objected to the prohibition of fixed-wing SVFR operations at IAD. The commenter stated that the blanket prohibition of SVFR was inappropriate and unnecessary. The commenter further stated that he had personally used SVFR twice in the last few years to land at IAD to participate in an event at the Smithsonian National Air and Space Museum's Steven F. Udvar-Hazy Center, which is located adjacent to IAD. The commenter further suggested that the IAD control tower should approve or disapprove SVFR operations on a case-by-case basis.

The FAA has determined that the comment meets the requirements for consideration as an adverse comment per § 11.31(a). In accordance with the provisions of § 11.31(c), the FAA withdraws the direct final rule.

Conclusion

Withdrawal of Amendment No. 91-337 does not preclude the FAA from issuing rulemaking on the subject in the future, nor does it commit the agency to any future course of action. The agency may also make any future necessary changes to the Code of Federal Regulations through a notice of proposed rulemaking with opportunity for public comment. Therefore, the FAA withdraws Amendment No. 91-337 published at 80 FR 15887, March 26, 2015.

Issued under authority provided by 49 U.S.C. 106(f), 44701(a), and 44703 in Washington, DC, on May 13, 2015.
Jodi S. McCarthy,
Director, Airspace Services.

[FR Doc. 2015-12047 Filed 5-18-15; 8:45 am]

BILLING CODE 4910-13-P